DEPARTMENT OF COMMERCE

International Trade Administration

[A-570-847]

Persulfates from the People's Republic of China: Final Results of Antidumping Duty Administrative Review

AGENCY: Import Administration, International Trade Administration, Department of Commerce.

ACTION: Notice of Final Results of Antidumping Duty Administrative Review.

SUMMARY: On August 6, 2002, the Department of Commerce published the preliminary results of the 2000-2001 administrative review of the antidumping duty order on persulfates from the People's Republic of China. This review covers one manufacturer/exporter of the subject merchandise to the United States. The merchandise covered by this order are persulfates, including ammonium, potassium, and sodium persulfates. The period of review is July 1, 2000, through June 30, 2001.

Based on our analysis of the comments received, we have made certain changes in the margin calculations. In addition, because updated information now exists, we have made a change in the margin calculation for Ai Jian with respect to the surrogate value for labor. See the section entitled “Changes Since the Preliminary Results” listed below. The final weighted-average dumping margins are listed below in the section entitled “Final Results of the Review.”

EFFECTIVE DATE: February 10, 2003.

FOR FURTHER INFORMATION CONTACT: Mike Strollo, AD/CVD Enforcement Group I, Office II, Import Administration, International Trade Administration, U.S. Department of Commerce, 14th Street and Constitution Avenue, N.W., Washington, D.C. 20230; telephone: (202) 482-0629.

SUPPLEMENTARY INFORMATION:

Background

On August 6, 2002, the Department published the preliminary results of the 2000-2001 administrative review of the antidumping duty order on persulfates from the People's Republic of China (PRC). See Persulfates from the People's Republic of China: Preliminary Results of Antidumping Duty Administrative Review, and Partial Rescission of Administrative Review, 67 FR 50866 (Aug. 6, 2002) (Preliminary Results). This review covers one exporter, Shanghai Ai Jian Import & Export Corporation (Ai Jian), and its affiliated manufacturer, Shanghai Ai Jian Reagent Works.

We invited interested parties to comment on the preliminary results of review. The Department has conducted this administrative review in accordance with section 751 of the Tariff Act of 1930, as amended (the Act).

Scope of Review

The products covered by this review are persulfates, including ammonium, potassium, and sodium persulfates. The chemical formula for these persulfates are, respectively, (NH4)2S2O8, K2S2O8, and Na2S2O8. Ammonium and potassium persulfates are currently classifiable under subheading 2833.40.60 of the Harmonized Tariff Schedule of the United States (HTSUS). Sodium persulfate is classifiable under HTSUS subheading 2833.40.20. Although the HTSUS subheadings are provided for convenience and customs purposes, the written description of the scope of this review is dispositive.

Separate Rates

Ai Jian has requested a separate, company-specific antidumping duty rate. In our preliminary results, we found that Ai Jian had met the criteria for the application of a separate antidumping duty rate. See Preliminary Results, 67 FR at 50867. We have not received any other information since the preliminary results which would warrant reconsideration of our separate rates determination with respect to this company. We therefore determine that Ai Jian should be assigned an individual dumping margin in this administrative review.

Analysis of Comments Received

All issues raised in the case briefs by parties to this administrative review are addressed in the “Issues and Decision Memorandum” (Decision Memo) from Susan Kuhbach, Acting Deputy Assistant Secretary, Group I, to Faryar Shirzad, Assistant Secretary for Import Administration, dated February 3, 2003, which is adopted by this notice. A list of the issues which parties have raised and to which we have responded, all of which are in the Decision Memo, is attached to this notice as an Appendix. Parties can find a complete discussion of all issues raised in this review and the corresponding recommendations in this public memorandum, which is on file in the Central Records Unit in Room B-099 of the main Commerce Building.

In addition, a complete version of the Decision Memo can be accessed directly on the Web at http://ia.ita.doc.gov. The paper copy and electronic version of the Decision Memo are identical in content.

Changes Since the Preliminary Results

For purposes of the final results, we have made certain changes in the margin calculation for Ai Jian. For a discussion of these changes, see the “Margin Calculations” section of the Decision Memo.

• We revalued labor based on the regression-based wage rate for 2000 in accordance with 19 CFR 351.408(c)(3);

• We revised the surrogate value for wood pallets using Indian import statistics for the period July 2000 through June 2001;

• We based factory overhead (FOH), SG&A expenses, and profit on the financial statements of Gujarat alone, rather than calculating these expenses as an average of the experience of Calibre and Gujarat;

• We adjusted the calculation of the surrogate FOH ratio for Gujarat by excluding the cost of traded goods from the denominator of the ratio; and

• We adjusted the calculation of the surrogate SG&A ratio for Gujarat. We excluded movement expenses originally included in the cost of manufacture used as the denominator for the surrogate SG&A ratio, as well as certain interest expenses used to offset financing costs.

Final Results of the Review

We determine that the following percentage weighted-average margin exists for the period July 1, 2000 through June 30, 2001:

Manufacturer/exporter | Margin (percent)
Shanghai Ai Jian Import & Export Corporation | 0.00 percent

Assessment Rates

The Department will determine, and the Customs Service shall assess, antidumping duties on all appropriate entries. For assessment purposes, we do not have the information to calculate entered value because Ai Jian is not the importer of record for the subject merchandise. Accordingly, we have calculated customer-specific duty assessment rates for the merchandise in question by aggregating the dumping margins calculated for all U.S. sales to each customer and dividing this amount by the total quantity of those sales. To determine whether the duty assessment rates were de minimis, in accordance with the requirement set forth in 19 CFR 351.106(c)(2), we calculated customer-specific ad valorem ratios based on export prices. We will direct the Customs Service to assess the resulting assessment rates uniformly on all entries of that particular customer made during the period of review. Pursuant to 19 CFR 351.106(c)(2), we will instruct the Customs Service to liquidate without regard to antidumping duties any entries for which the assessment rate is de minimis. The Department will issue appropriate assessment instructions directly to the Customs Service within 15 days of publication of these final results of review.

Cash Deposit Requirements

The following deposit requirements will be effective upon publication of this notice of final results of this antidumping duty administrative review for all shipments of persulfates from the PRC entered, or withdrawn from warehouse, for consumption on or after the date of publication, as provided by section 751(a)(1) of the Act: (1) for Ai Jian, the cash deposit rate will be zero; (2) for previously reviewed or investigated companies not listed above that have separate rates, the cash deposit rate will continue to be the company-specific rate published for the most recent period; (3) the cash deposit rate for all other PRC exporters will be 119.02 percent, the PRC-wide rate established in the less than fair value investigation; and (4) the cash deposit rate for non-PRC exporters of subject merchandise from the PRC will be the rate applicable to the PRC supplier of that exporter.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing this determination and notice in accordance with sections section 751(a)(1) and 777(i) of the Act.

Dated: February 3, 2003.
Faryar Shirzad,
Assistant Secretary for Import Administration.

Appendix—Issues in Decision Memo

Comment 1: Separate Rates

Comment 2: Use of Adverse Facts Available

Comment 3: Ocean Freight

Comment 4: Marine Insurance

Comment 5: Steam, Coal and Water Consumption

Comment 6: Use of Indian Data to Value Wood Pallets

Comment 7: Packing Labor

Comment 8: Whether the Financial Statements of Calibre Chemicals Pvt., Ltd. (Calibre) and Gujarat Persalts (P) Ltd. (Gujarat) Are Publicly Available Information

Comment 9: Whether Gujarat's Financial Statements Are an Appropriate Source for Factory Overhead (FOH), Selling, General, and Administrative (SG&A) Expenses, and Profit

Comment 10: Whether Calibre's Financial Statements Are an Appropriate Source for FOH, SG&A, and Profit

Comment 11: Adjustments to SG&A

[FR Doc. 03-3285 Filed 2-7-03; 8:45 am]

BILLING CODE 3510-DS-S